DEPARTMENT OF THE INTERIOR

Office of Natural Resources Revenue

[Docket No. ONRR-2011-0012; DS63644000 DRT000000.CH7000 201D1113RT]

Major Portion Prices and Due Date for Additional Royalty Payments on Indian Gas Production in Designated Areas Not Associated With an Index Zone; Correction

AGENCY: Office of Natural Resources Revenue, Interior.

ACTION: Notice; correction.

SUMMARY: On August 4, 2020, the Office of Natural Resources Revenue (ONRR) published in the Federal Register a document that announced calendar year 2018's major portion prices for Indian leases and the due date for industry to pay additional royalties based on major portion prices. The document incorrectly stated in the DATES section that the due date to pay additional royalties is October 5, 2020 when it should have stated that the due date is October 31, 2020.

FOR FURTHER INFORMATION CONTACT: Luis Aguilar, (303) 231-3418.

SUPPLEMENTARY INFORMATION:

Correction

In the Federal Register of August 4, 2020, in FR Doc Number 2020-16902, on page 47240 (85 FR 47240), in the third column, correct the DATES caption to read:

DATES: The due date to pay additional royalties based on the major portion prices is October 31, 2020.

Kimbra G. Davis,
Director, Office of Natural Resources Revenue.

[FR Doc. 2020-17514 Filed 8-10-20; 8:45 am]

BILLING CODE 4335-30-P